DEPARTMENT OF JUSTICE

Antitrust Division

Notice Pursuant to the National Cooperative Research and Production Act of 1993—Southwest Research Institute: Naturally Aspirated Tier III

Notice is hereby given that, on August 6, 2001, pursuant to Section 6(a) of the National Cooperative Research and Production Act of 1993, 15 U.S.C. 4301 et seq. (“the Act”), Southwest Research Institute: Naturally Aspirated Tier III has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Caterpillar, Inc., Peoria, IL; Denso Corporation, Kariya-City, JAPAN; European Engine Alliance, Maidenhead, Berks, UNITED KINGDOM; Kubota Corporation, Sakai-City, JAPAN; Lombardini S.R.L., Via Cav. A. Lombardini, ITALY; Robert Bosch GmbH, Gerlingen-Schillerhöhe, GERMANY; and Yanmar Diesel Engine Co., Ltd., Maibara Sakata, JAPAN. The nature and objectives of the venture are to develop emissions reduction technology for nonroad, naturally-aspirated diesel engines, <75 kW only, as well as to demonstrate compliance with regulated emissions standards. The emission goals will simultaneously address the proposed United States Environmental Protection Agency (US EPA) Tier 3 emissions standards and anticipated European and Japanese emissions regulations. The Naturally Aspirated Tier III Program will try to achieve the emission goals with the fuel economy, CO2 and specific engine power comparable to US EPA Tier 2 compliant naturally-aspirated engines. The emissions are to be achieved over test cycles, including, but not limited to, the ISO 8178 C1, ISO 8178 D2, and ISO 8178 G2 steady-state cycles.

Membership in this research group remains open, and the participants intend to file additional written notifications disclosing all changes in membership or planned activities.

Constance K. Robinson,
Director of Operations, Antitrust Division.

[FR Doc. 01-23959 Filed 9-24-01; 8:45 am]

BILLING CODE 4410-11-M